ENVIRONMENTAL PROTECTION AGENCY

[EPA-HQ-OECA-2014-0057; FRL-9985-58-OEI]

Information Collection Request Submitted to OMB for Review and Approval; Comment Request; NESHAP for Wood Furniture Manufacturing Operations (Renewal)

AGENCY: Environmental Protection Agency (EPA).

ACTION: Notice.

SUMMARY: The Environmental Protection Agency (EPA) has submitted an information collection request (ICR), NESHAP for Wood Furniture Manufacturing Operations (EPA ICR No. 1716.10, OMB Control No. 2060-0324), to the Office of Management and Budget (OMB) for review and approval in accordance with the Paperwork Reduction Act. This is a proposed extension of the ICR, which is currently approved through November 30, 2018. Public comments were previously requested via the Federal Register on June 29, 2017 during a 60-day comment period. This notice allows for an additional 30 days for public comments. A fuller description of the ICR is given below, including its estimated burden and cost to the public. An agency may neither conduct nor sponsor, and a person is not required to respond to, a collection of information unless it displays a currently valid OMB control number.

DATES: Additional comments may be submitted on or before November 30, 2018.

ADDRESSES: Submit your comments, referencing Docket ID Number EPA-HQ-OECA-2014-0057, to: (1) EPA online using www.regulations.gov (our preferred method), or by email to docket.oeca@epa.gov, or by mail to: EPA Docket Center, Environmental Protection Agency, Mail Code 28221T, 1200 Pennsylvania Ave. NW, Washington, DC 20460; and (2) OMB via email to oira_submission@omb.eop.gov. Address comments to OMB Desk Officer for EPA.

EPA's policy is that all comments received will be included in the public docket without change including any personal information provided, unless the comment includes profanity, threats, information claimed to be Confidential Business Information (CBI), or other information whose disclosure is restricted by statute.

FOR FURTHER INFORMATION CONTACT: Patrick Yellin, Monitoring, Assistance, and Media Programs Division, Office of Compliance, Mail Code 2227A, Environmental Protection Agency, 1200 Pennsylvania Ave. NW, Washington, DC 20460; telephone number: (202) 564-2970; fax number: (202) 564-0050; email address: yellin.patrick@epa.gov.

SUPPLEMENTARY INFORMATION: Supporting documents, which explain in detail the information that the EPA, will be collecting are available in the public docket for this ICR. The docket can be viewed online at www.regulations.gov, or in person at the EPA Docket Center, WJC West, Room 3334, 1301 Constitution Ave. NW, Washington, DC. The telephone number for the Docket Center is 202-566-1744. For additional information about EPA's public docket, visit: http://www.epa.gov/dockets.

Abstract: The National Emission Standards for Hazardous Air Pollutants (NESHAP) for Wood Furniture Manufacturing Operations (40 CFR part 63, subpart JJ) apply to both existing and new wood furniture manufacturing operations that are major sources of hazardous air pollutants (HAPs). A “major source” is a stationary source or group of stationary sources that emit or have the potential to emit 10 tons per year (tpy) or more of a HAP or 25 tpy or more of a combination of HAPs. New facilities include those that commenced construction, modification, or reconstruction after the date of proposal. These standards also apply to existing and new incidental sources and to area sources. These sources are only required to maintain purchase or usage records demonstrating that they meet the definition for incidental or area sources. Incidental and area sources are not subject to any other provisions of these standards. An “incidental source,” as defined in these standards, is a major source that is primarily engaged in the manufacture of products other than wood furniture or wood furniture components, and that uses no more than 100 gallons per month of finishing material or adhesives in the manufacture of wood furniture or wood furniture components. An “area source” is any stationary source that is not a major source.”

In general, all NESHAP standards require initial notifications, performance tests, and periodic reports by the owners/operators of the affected facilities. They are also required to maintain records of the occurrence and duration of any startup, shutdown, or malfunction in the operation of an affected facility, or any period during which the monitoring system is inoperative. These notifications, reports, and records are essential in determining compliance with 40 CFR part 63, subpart JJ.

Form Numbers: None.

Respondents/affected entities: Wood furniture manufacturing facilities.

Respondent's obligation to respond: Mandatory (40 CFR part 63, subpart JJ).

Estimated number of respondents: 856 (total).

Frequency of response: Initially, occasionally, quarterly, semiannually, and annually.

Total estimated burden: 70,800 hours (per year). Burden is defined at 5 CFR 1320.3(b).

Total estimated cost: $7,780,000 (per year), which includes $24,600 in annualized capital/startup and/or operation & maintenance costs.

Changes in the estimates: The increase in burden hours and the number of responses from the most-recently approved ICR is due to several adjustments: (1) This ICR accounts for the time for each source to refamiliarize themselves with the regulatory requirements each year; and (2) this ICR added in one-time requirements for reconstructed and modified sources that were missing from the previous renewal and edited the frequency of records to better match regulatory requirements. Overall, these changes resulted in an increase of 4,565 hours.

Courtney Kerwin,
Director, Regulatory Support Division.

[FR Doc. 2018-23756 Filed 10-30-18; 8:45 am]

BILLING CODE 6560-50-P